INTERNATIONAL TRADE COMMISSION

[USITC SE-15-014]

Government In The Sunshine Act Meeting Notice

AGENCY HOLDING THE MEETING: United States International Trade Commission.

TIME AND DATE: April 28, 2015 at 11:00 a.m.

PLACE: Room 101, 500 E Street SW., Washington, DC 20436, Telephone: (202) 205-2000.

STATUS: Open to the public,

MATTERS TO BE CONSIDERED: 1. Agendas for future meetings: None.

2. Minutes.

3. Ratification List.

4. Vote in Inv. Nos. 701-TA-463 and 731-TA-1159 (Review)(Oil Country Tubular Goods from China). The Commission is currently scheduled to complete and file its determinations and views of the Commission on May 7, 2015.

5. Vote in Inv. Nos. 731-TA-1014, 1016, and 1017 (Second Review)(Polyvinyl Alcohol from China, Japan, and Korea). The Commission is currently scheduled to complete and file its determinations and views of the Commission on May 12, 2015.

6. Outstanding action jackets: none.

In accordance with Commission policy, subject matter listed above, not disposed of at the scheduled meeting, may be carried over to the agenda of the following meeting.

By order of the Commission:
Issued: April 15, 2015.
William R. Bishop,
Supervisory Hearings and Information Officer.

[FR Doc. 2015-09174 Filed 4-16-15; 4:15 pm]

BILLING CODE 7020-02-P